DEPARTMENT OF TRANSPORTATION

Federal Highway Administration

Notice To Rescind Notice of Intent To Prepare Environmental Impact Statement, U.S. 219 Project, Garrett County, Maryland and Somerset County, Pennsylvania

AGENCY: Federal Highway Administration (FHWA), DOT.

ACTION: Notice to rescind Notice of Intent to prepare an Environmental Impact Statement.

SUMMARY: The Federal Highway Administration is issuing this notice to advise the public that FHWA is rescinding its Notice of Intent to prepare an Environmental Impact Statement for the U.S. 219 project in Garrett County, Maryland and Somerset County, Pennsylvania.

FOR FURTHER INFORMATION CONTACT: Joy Liang, Environmental Protection Specialist, Federal Highway Administration, Maryland Division, (410) 779-7148, or email: joy.liang@dot.gov; Barbara Shaffer, Planning and Environmental Specialist, Federal Highway Administration, Pennsylvania Division, (717) 221-3704, or email: Barbara.shaffer@dot.gov; Barry Kiedrowski, MD SHA Project Manager (410) 545-8769, or email: BKiedrowski@sha.state.md.us; or Greg Illig, P.E., PennDOT Senior Project Manager, (814) 696-7179, or email: gillig@pa.gov.

SUPPLEMENTARY INFORMATION: A Notice of Intent to prepare an Environmental Impact Statement for the U.S. 219 project was published in the Federal Register in 2003 (68 FR 59840, October 17, 2003). No alternative was selected at that time. A revised Notice of Intent was published in the Federal Register in 2014 (79 FR 42868, July 23, 2014). FHWA issued the revised Notice of Intent to advise the public of modifications to the environmental review process for the U.S. 219 project. These modifications included a change in the lead Federal agency from the FHWA Pennsylvania Division Office to the FHWA Maryland Division Office and intent of FHWA to utilize the environmental review provisions afforded under Section 6002 of the Safe, Accountable, Flexible, Efficient Transportation Equity Act: A Legacy for Users (SAFETEA-LU) and under Section 1319 of the Moving Ahead for the Progress in the 21st Century Act (MAP-21).

The proposed transportation project was along Section 019 of U.S. 219 which extends from the southern terminus of the Meyersdale Bypass in Somerset County, Pennsylvania to I-68 in Garrett County, Maryland. The project was approximately 8 miles with about 2.5 miles in Maryland and 5.5 miles in Pennsylvania.

Due to Federal and State funding constraints, as well as the unlikelihood of adequate funding for all project phases in the foreseeable future, the Notice of Intent is hereby rescinded. A planning study is being undertaken to consider transportation needs in the region.

Gregory Murrill,
Division Administrator, Federal Highway Administration, Baltimore, Maryland.

[FR Doc. 2016-03247 Filed 2-16-16; 8:45 am]

BILLING CODE 4910-22-P